DEPARTMENT OF COMMERCE

International Trade Administration

[C-570-021, C-274-807]

Melamine From the People's Republic of China and Trinidad and Tobago: Postponement of Preliminary Determinations of Countervailing Duty Investigations

AGENCY: Enforcement and Compliance, International Trade Administration, Commerce.

DATES: Effective January 22, 2015.

FOR FURTHER INFORMATION CONTACT: Andrew Medley, AD/CVD Operations, Office III, Enforcement and Compliance, International Trade Administration, U.S. Department of Commerce, 14th Street and Constitution Avenue NW., Washington, DC 20230; telephone: (202) 482-4987.

SUPPLEMENTARY INFORMATION:

Background

On December 2, 2014, the Department of Commerce (“Department”) initiated countervailing duty investigations on melamine from the People's Republic of China (“PRC”) and Trinidad and Tobago.¹ The current deadline for the preliminary determinations of these investigations is no later than February 5, 2015.

¹ See Melamine from the People's Republic of China and Trinidad and Tobago: Initiation of Countervailing Duty Investigations, 79 FR 73030 (December 9, 2014).

Postponement of Preliminary Determination

Section 703(b)(1) of the Tariff Act of 1930, as amended (“the Act”), requires the Department to issue the preliminary determination in a countervailing duty investigation within 65 days after the date on which the Department initiated the investigation. However, section 703(c)(1)(B) of the Act permits the Department to postpone making the preliminary determination until no later than 130 days after the date on which it initiated the investigation if, among other reasons, the petitioner makes a timely request for a postponement, or the Department concludes that the parties concerned are cooperating and determines that the investigation is extraordinarily complicated. On January 9, 2015, in accordance with 19 CFR 351.205(b)(2), Cornerstone Chemical Company (“Petitioner”) made timely requests to postpone the preliminary countervailing duty determinations.² Therefore, in accordance with section 703(c)(1)(A) of the Act, the Department is hereby postponing the preliminary countervailing duty determinations by 65 days to no later than April 11, 2015. However, because April 11, 2015, falls on a Saturday, the preliminary determinations are now due no later than April 13, 2015.³

² See Letters from Petitioner titled “Melamine From The People's Republic Of China: Request For Postponement Of The Preliminary Determination” and “Melamine From Trinidad and Tobago: Request For Postponement Of The Preliminary Determination,” dated January 9, 2015.

³ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: January 15, 2015.
Paul Piquado,
Assistant Secretary for Enforcement and Compliance.

[FR Doc. 2015-01050 Filed 1-21-15; 8:45 am]

BILLING CODE 3510-DS-P